DEPARTMENT OF TRANSPORTATION

Federal Aviation Administration

14 CFR Parts 13, 47, and 91

[Docket No. FAA-2008-0118; Amdt. Nos. 13-34, 47-29, 91-318]

RIN 2120-AI89

Re-Registration and Renewal of Aircraft Registration; OMB Approval of Information Collection

AGENCY: Federal Aviation Administration, DOT.

ACTION: Final rule; approval of the information collection.

SUMMARY: This document announces Office of Management and Budget's (OMB's) approval of the information collection requirement contained in the FAA's final rule, “Re-Registration and Renewal of Aircraft Registration,” which was published on July 20, 2010.

DATES: The FAA received OMB approval for the information collection requirements in 14 CFR part 47 on August 16, 2010. The rule becomes effective on October 1, 2010.

FOR FURTHER INFORMATION CONTACT: John G. Bent, Civil Aviation Registry, Mike Monroney Aeronautical Center, 6500 South MacArthur Boulevard, Oklahoma City, OK 73169; telephone: (405) 954-4331.

SUPPLEMENTARY INFORMATION: On July 20, 2010, the FAA published the final rule, “Re-Registration and Renewal of Aircraft Registration” (75 FR 41968). Over a 3-year period, this rule will terminate the registration of all aircraft registered before October 1, 2010, and will require the re-registration of each aircraft to retain U.S. civil aircraft status. The rule also establishes a system for a 3-year recurrent expiration and renewal of registration for all aircraft issued a registration certificate on or after October 1, 2010. The final rule amends the FAA's regulations to provide standards for the timely cancellation of registration (N-numbers) for unregistered aircraft. This final rule makes other minor changes to establish consistency and ensure the regulations conform to statute or current Registry practices. The amendments will improve the accuracy of the Civil Aviation Registry.

The rule contained information collection requirements that had not yet been approved by the Office of Management and Budget at the time of publication. In accordance with the Paperwork Reduction Act, OMB approved that request on August 16, 2010, and assigned the information collection OMB Control Number 2120-0729. The FAA request was approved by OMB for a term of 18 months and expires on February 29, 2010. This notice is being published to inform affected parties of the approval of the information collection requirements of 14 CFR part 47.

Issued in Washington, DC, on August 24, 2010.
Dennis R. Pratte, II,
Acting Director, Office of Rulemaking.

[FR Doc. 2010-21561 Filed 8-27-10; 8:45 am]

BILLING CODE 4910-13-P